DEPARTMENT OF THE INTERIOR

National Park Service

[NPS-WASO-NAGPRA-15774; PPWOCRADN0-PCU00RP14.R50000]

Notice of Inventory Completion: U.S. Department of the Interior, National Park Service, El Morro National Monument, Ramah, NM

AGENCY: National Park Service, Interior.

ACTION: Notice.

SUMMARY: The U.S. Department of the Interior, National Park Service, El Morro National Monument has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to El Morro National Monument. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to El Morro National Monument at the address in this notice by July 24, 2014.

ADDRESSES: Mitzi Frank, Superintendent, El Morro and El Malpais National Monuments, 123 East Roosevelt Avenue, Grants, NM 87020, telephone (505) 285-4641, email mitzi_frank@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, El Morro National Monument, Ramah, NM. The human remains and associated funerary objects were removed from El Morro National Monument, Cibola County, NM.

This notice is published as part of the National Park Service's administrative responsibilities under NAGPRA, 25 U.S.C. 3003(d)(3). The determinations in this notice are the sole responsibility of the Superintendent, El Morro National Monument.

Consultation

A detailed assessment of the human remains was made by El Morro National Monument professional staff in consultation with representatives of the Navajo Nation, Arizona, New Mexico & Utah; Pueblo of Acoma, New Mexico; and Zuni Tribe of the Zuni Reservation, New Mexico (hereafter referred to as “The Consulted Tribes”).

The following tribes were invited to consult but did not participate: Hopi Tribe of Arizona; Kewa Pueblo, New Mexico (previously listed as the Pueblo of Santo Domingo); Mescalero Apache Tribe of the Mescalero Reservation, New Mexico; Pueblo of Laguna, New Mexico; Pueblo of Sandia, New Mexico; Pueblo of Santa Ana, New Mexico; and Pueblo of Zia, New Mexico (hereafter referred to as “The Invited Tribes”).

History and Description of the Remains

In 1954 and 1955, human remains representing, at minimum, 14 individuals were removed from Atsinna Pueblo in Cibola County, NM. The human remains were removed during legally authorized excavations by Richard B. Woodbury under the auspices of the Department of Anthropology, Columbia University, New York, NY. No known individuals were identified. The 16 associated funerary objects are 1 cordage fragment, 1 textile fragment, 1 projectile point, 1 chopper, 1 bag of plaque fragments, 1 wooden pump drill, 2 pieces of worked wood, 1 bivalve shell, 1 prayer stick, 1 ground stone maul, 2 bags of worked turkey bone, 1 bag of unworked turkey bone, 1 canine tooth, and 1 bag of unworked small mammal bone.

In 1961, human remains representing, at minimum, three individuals were removed from Atsinna Pueblo in Cibola County, NM. The legally authorized excavations were conducted by Joel Shiner and Roland Richart of the National Park Service. No known individuals were identified. The eight associated funerary objects are one ground stone abrader, two bags of unworked turkey bone, one ground stone maul, one textile fragment, one twined wicker basket fragment, one fragment of bark matting, and one pinyon nut.

Ceramic and tree-ring evidence indicate that the pueblo was built around A.D. 1275 and was occupied through the mid-1300s. Evidence demonstrating continuity between the people of Atsinna Pueblo from A.D. 1275-1300 and the Pueblo of Acoma, New Mexico, and the Zuni Tribe of the Zuni Reservation, New Mexico, includes similarities in architecture, material culture, mortuary practices, and settlement patterns. Oral histories of both the Pueblo of Acoma and Zuni Tribe support cultural continuity between the Pueblo of Acoma and the Zuni Tribe and the people of Atsinna Pueblo, which is known as Heshoda Yalta in the Zuni Language. For example, many Zuni migration and origin stories recount the journey from their place of emergence, deep within the canyon along the Colorado River, to the Middle Place now known as Zuni Pueblo, with Heshoda Yalta as a stopping point along the way. Pictographs and petroglyphs important to the Zuni tribe and Pueblo of Acoma are found near Atsinna Pueblo. During consultation, both the Zuni Tribe and the Pueblo of Acoma described the historic Zuni Acoma trail, which connects the two present day pueblos and runs through El Morro National Monument, as used for regular foot traffic and an access route to various sacred places. The contemporary significance and continued cultural use of the pictographs, petroglyphs, and trail are further evidence of the continuity between the people of Atsinna Pueblo from A.D. 1275-1300 and the Pueblo of Acoma, New Mexico, and the Zuni Tribe of the Zuni Reservation, New Mexico.

Determinations Made By El Morro National Monument

Officials of El Morro National Monument have determined that:

• Pursuant to 25 U.S.C. 3001(9), the human remains described in this notice represent the physical remains of 17 individuals of Native American ancestry.

• Pursuant to 25 U.S.C. 3001(3)(A), the 24 objects described in this notice are reasonably believed to have been placed with or near individual human remains at the time of death or later as part of the death rite or ceremony.

• Pursuant to 25 U.S.C. 3001(2), there is a relationship of shared group identity that can be reasonably traced between the Native American human remains and associated funerary objects and the Pueblo of Acoma, New Mexico, and Zuni Tribe of the Zuni Reservation, New Mexico.

Additional Requestors and Disposition

Lineal descendants or representatives of any Indian tribe or Native Hawaiian organization not identified in this notice that wish to request transfer of control of these human remains and associated funerary objects should submit a written request with information in support of the request to Mitzi Frank, Superintendent, El Morro and El Malpais National Monuments, 123 East Roosevelt Avenue, Grants, NM 87020, telephone (505) 285-4641, email mitzi_frank@nps.gov, by July 24, 2014. After that date, if no additional requestors have come forward, transfer of control of the human remains and associated funerary objects to the Pueblo of Acoma, New Mexico, and Zuni Tribe of the Zuni Reservation, New Mexico may proceed.

El Morro National Monument is responsible for notifying The Consulted Tribes and The Invited Tribes that this notice has been published.

Dated: May 7, 2014.
Sherry Hutt,
Manager, National NAGPRA Program.

[FR Doc. 2014-14731 Filed 6-23-14; 8:45 am]

BILLING CODE 4312-50-P